OFFICE OF PERSONNEL MANAGEMENT

5 CFR Part 950

RIN 3206-AK71

Solicitation of Federal Civilian and Uniformed Service Personnel for Contributions to Private Voluntary Organizations—Sanctions Compliance Certification

AGENCY: Office of Personnel Management.

ACTION: Proposed rule.

SUMMARY: The Office of Personnel Management (OPM) is issuing a proposed regulation for the Combined Federal Campaign (CFC). This regulation requires that each federation and unaffiliated organization applying to participate in the CFC must, as a condition of participation, certify that it is in compliance with all statutes, Executive orders, and regulations restricting or prohibiting U.S. persons from engaging in transactions and dealings with countries, entities, and individuals subject to economic sanctions administered by the U.S. Department of the Treasury's Office of Foreign Assets Control (OFAC).

DATES: We will consider comments received within 60 days from the date of publication in the Federal Register.

ADDRESSES: You may submit comments, identified by RIN number, by any of the following methods:

• Federal eRulemaking Portal: http://www.regulations.gov. Follow the instructions for submitting comments.

• E-mail: cfc@opm.gov. Include “RIN 3206-AK71” in the subject line of the message.

• Fax: (202) 606-0902.

• Mail: Mara T. Patermaster, Director for, U.S. Office of Personnel Management, Office of CFC Operations, Room 5450, 1900 E Street, NW., Washington, DC 20415.

• Hand Delivery/Courier: Mara T. Patermaster, Director for, U.S. Office of Personnel Management, Office of CFC Operations, Room 5450, 1900 E Street, NW., Washington, DC 20415.

FOR FURTHER INFORMATION CONTACT: Mark W. Lambert, Senior Compliance Officer for the Office of CFC Operations, by telephone on (202) 606-2564, by FAX on (202) 606-0902, or by e-mail at cfc@opm.gov.

SUPPLEMENTARY INFORMATION: OFAC is the office principally responsible for administering and enforcing U.S. economic sanctions programs. These programs further U.S. foreign policy and national security goals and are primarily directed against foreign states and nationals, including sponsors of global terrorism and foreign narcotics traffickers. OFAC acts, pursuant to delegated authority, under Presidential wartime and peacetime national emergency powers. The programs administered by OFAC restrict or prohibit U.S. persons from engaging in transactions and dealings with targeted countries, entities, and individuals. OFAC publishes a list of Specially Designated Nationals and Blocked Persons (SDN List) that are subject to economic sanctions. The SDN List and additional information relating to the countries subject to sanctions and the programs OFAC administers are available at http://www.treas.gov/offices/enforcement/ofac/sanctions/. A link to this Web site can be accessed through the CFC Web site (http://www.opm.gov/cfc).

OPM is issuing a proposed regulation governing the solicitation of Federal civilian and uniformed services personnel at the workplace for contributions to private non-profit organizations through the CFC under the authority of Executive Order 12353 (March 23, 1982). OPM has plenary authority under 5 CFR part 950 to administer the CFC in compliance with legal standards.

A pattern of abuse of U.S. and foreign charities has become evident in recent years. Between October 2001 and December 2004, the United States has: (i) Imposed sanctions against five U.S.-based charities and thirty-five non-U.S. charities for terrorist financing activity under the authority of Executive Order 13224 (Sept. 23, 2001) and the International Emergency Economic Powers Act, 50 U.S.C. 1701, et seq.; (ii) convicted and sentenced the leader of a U.S.-based charity for racketeering and fraud owing to terrorist-related support; (iii) indicted another U.S.-based charity and its leadership under pending terrorist financing charges, and (iv) investigated numerous other charities operating in the U.S. and suspected of terrorist financing activity. These cases demonstrate the vulnerability of the charitable sector to abuse by terrorists and others and also underscore the importance of due diligence within the charitable sector.

Accordingly, in order to further the purposes of the economic sanctions imposed by the President, to ensure that CFC participants are exercising appropriate diligence, and to help safeguard the integrity of the CFC and the interests of Federal employees who contribute to the Campaign, the proposed regulation requires that each federation and unaffiliated organization applying to participate in the CFC must, as a condition of participation, certify that it is in compliance with all statutes, Executive orders, and regulations restricting or prohibiting U.S. persons from engaging in transactions and dealings with countries, entities, and individuals subject to economic sanctions administered by OFAC. The certification proposed for comment for the 2006 and subsequent Campaigns reads as follows:

I certify that the organization named in this application is in compliance with all statutes, Executive orders, and regulations restricting or prohibiting U.S. persons from engaging in transactions and dealings with countries, entities, or individuals subject to economic sanctions administered by the U.S. Department of the Treasury's Office of Foreign Assets Control. The organization named in this application is aware that a list of countries subject to such sanctions, a list of Specially Designated Nationals and Blocked Persons subject to such sanctions, and overviews and guidelines for each such sanction program can be found at http://www.treas.gov/offices/enforcement/ofac/sanctions/. If the organization named in this application becomes noncompliant at any time subsequent to completing this certification, it will notify the OPM Office of CFC Operations immediately.

In an effort to develop a certification that both serves the public interest and meets the needs of the stakeholder community, including CFC charitable organization applicants and Federal donors, comment is now being solicited for consideration prior to the 2006 CFC and subsequent Campaigns.

Comment is invited on what issues, if any, are presented by the approach proposed by OPM for the 2006 and subsequent Campaigns in light of certifications currently required by other agencies for different programs. In particular, the U.S. Agency for International Development requires grantees to make a certification (available under keyword “Anti-Terrorism Certification” at http://www.usaid.gov/keywords.html). Comments from recipients of funding from USAID who also participate in the Combined Federal Campaign are especially urged to comment on the appropriateness of different certification requirements.

Regulatory Flexibility Act

I certify that this regulation will not have a significant economic impact on a substantial number of small entities. Organizations applying to the CFC have an existing, independent obligation to comply with U.S. sanctions laws. Requiring them to execute a certification with respect to such compliance is not burdensome. OPM has taken steps to minimize the economic impact on small entities by including in the text of the certification the OFAC Web site address at which extensive information on U.S. sanctions is available via the Internet free of charge, including the text-searchable OFAC SDN List.

Executive Order 12866, Regulatory Review

This rule has been reviewed by the Office of Management and Budget in accordance with Executive Order 12866.

List of Subjects in 5 CFR Part 950

Administrative practice and procedures, Charitable contributions, Government employees, Military personnel, Nonprofit organizations and Reporting and recordkeeping requirements.

Office of Personnel Management.
Dan G. Blair,
Acting Director.

Accordingly, OPM is proposing to amend 5 CFR part 950 as follows:

PART 950—SOLICITATION OF FEDERAL CIVILIAN AND UNIFORMED SERVICE PERSONNEL FOR CONTRIBUTIONS TO PRIVATE VOLUNTARY ORGANIZATIONS

1. The authority citation for part 950 continues to read as follows:

Authority: E.O. 12353 (March 23, 1982), 47 FR 12785 (March 25, 1982). 3 CFR, 1982 Comp., p. 139. E.O. 12404 (February 10, 1983), 48 FR 6685 (February 15, 1983), Pub. L. 100-202, and Pub. L. 102-393 (5 U.S.C. 1101 Note).

§ 950.104 Local Federal Coordinating Committee Responsibilities.

2. In subpart A § 950.104 add paragraph (b)(18) to read as follows:

* * * * *

(b) * * *

(18) Determining whether each local organization that applies to participate in the local campaign has completed the sanctions compliance certification required pursuant to § 950.605. The LFCC must deny participation to any organization that has not completed the sanctions compliance certification.

3. In subpart F, add new § 950.605 to read as follows:

§ 950.605 Sanctions Compliance Certification.

Each federation and unaffiliated organization applying for participation in the CFC must, as a condition of participation, complete a certification that it is in compliance with all statutes, Executive orders, and regulations restricting or prohibiting U.S. persons from engaging in transactions and dealings with persons subject to economic sanctions administered by the U.S. Department of the Treasury's Office of Foreign Assets Control (OFAC). An organization that is not in compliance at any time subsequent to completing this certification must notify the OPM Office of CFC Operations immediately. OPM will take such steps as it deems appropriate under the circumstances, including, but not limited to, notifying OFAC and/or other enforcement authorities of such noncompliance, suspending disbursement of CFC funds not yet disbursed, retracting (to the extent practicable) CFC funds already disbursed, and suspending or expelling the organization from the CFC.

[FR Doc. 05-6023 Filed 3-28-05; 8:45 am]

BILLING CODE 6325-46-P